DEPARTMENT OF THE INTERIOR

Bureau of Reclamation

[RR83550000, 156R5065C6, RX.59389832.1009676]

Quarterly Status Report of Water Service, Repayment, and Other Water-Related Contract Actions

AGENCY: Bureau of Reclamation, Interior.

ACTION: Notice.

SUMMARY: Notice is hereby given of contractual actions that have been proposed to the Bureau of Reclamation (Reclamation) and are new, discontinued, or completed since the last publication of this notice. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Michelle Kelly, Reclamation Law Administration Division, Bureau of Reclamation, P.O. Box 25007, Denver, Colorado 80225-0007; telephone 303-445-2888.

SUPPLEMENTARY INFORMATION: Consistent with section 9(f) of the Reclamation Project Act of 1939, and the rules and regulations published in 52 FR 11954, April 13, 1987 (43 CFR 426.22), Reclamation will publish notice of proposed or amendatory contract actions for any contract for the delivery of project water for authorized uses in newspapers of general circulation in the affected area at least 60 days prior to contract execution. Announcement may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his or her designated public contact as they become available for review and comment.

7. In the event modifications are made in the form of a proposed contract, the appropriate regional director shall determine whether republication of the notice and/or extension of the comment period is necessary.

Factors considered in making such a determination shall include, but are not limited to, (i) the significance of the modification, and (ii) the degree of public interest which has been expressed over the course of the negotiations. At a minimum, the regional director will furnish revised contracts to all parties who requested the contract in response to the initial public notice.

Definitions of Abbreviations Used in the Reports

ARRA American Recovery and Reinvestment Act of 2009

BCP Boulder Canyon Project

Reclamation Bureau of Reclamation

CAP Central Arizona Project

CUP Central Utah Project

CVP Central Valley Project

CRSP Colorado River Storage Project

FR Federal Register

IDD Irrigation and Drainage District

ID Irrigation District

LCWSP Lower Colorado Water Supply Project

M&I Municipal and Industrial

NMISC New Mexico Interstate Stream Commission

O&M Operation and Maintenance

OM&R Operation, maintenance, and replacement

P-SMBP Pick-Sloan Missouri Basin Program

PPR Present Perfected Right

RRA Reclamation Reform Act of 1982

SOD Safety of Dams

SRPA Small Reclamation Projects Act of 1956

USACE U.S. Army Corps of Engineers

WD Water District

Pacific Northwest Region: Bureau of Reclamation, 1150 North Curtis Road, Suite 100, Boise, Idaho 83706-1234, telephone 208-378-5344.

New contract actions:

11. City of Prineville and Ochoco ID, Crooked River Project, Oregon: Long-term contract to provide the city of Prineville with a mitigation water supply from Prineville Reservoir; with the Ochoco ID being a party to the contract, as they are responsible for O&M of the dam and reservoir.

12. Burley and Minidoka IDs, Minidoka Project, Idaho: Supplemental and amendatory contracts to transfer the O&M of the Main South Side Canal Headworks to Burley ID and transfer the O&M of the Main North Side Canal Headworks to the Minidoka ID.

Mid-Pacific Region: Bureau of Reclamation, 2800 Cottage Way, Sacramento, California 95825-1898, telephone 916-978-5250.

The Mid-Pacific Region has no updates to report for this quarter.

Lower Colorado Region: Bureau of Reclamation, P.O. Box 61470 (Nevada Highway and Park Street), Boulder City, Nevada 89006-1470, telephone 702-293-8192.

New contract action:

25. La Paz County and Ehrenberg Improvement Association (EIA), BCP, Arizona: Review and approve a proposed partial assignment to the Association of 150 acre-feet per year of La Paz County's Arizona fourth priority water entitlement amount of 500 acre-feet per year and execute the associated amendments to La Paz County's contract and the Association's contract.

Completed contract action:

11. Flowing Wells ID and the City of Tucson, CAP, Arizona: Execute a proposed partial assignment to the City of 19 acre-feet per year from the District's CAP water entitlement amount of 4,354 acre-feet per year. Contract executed July 20, 2015.

Upper Colorado Region: Bureau of Reclamation, 125 South State Street, Room 8100, Salt Lake City, Utah 84138-1102, telephone 801-524-3864.

New contract actions:

32. Uintah Water Conservancy District; Flaming Gorge Unit, CRSP; Utah: The District has requested a long-term water service contract to remove up to 5,500 acre-feet of water annually from the Green River for irrigation purposes under the authority of Section 9(e) of the Reclamation Project Act of 1939. A short-term contract may be executed until a long-term contract can be completed.

33. Salem Canal and Irrigation Company, Strawberry Valley Project, Utah: The United States intends to enter into an amendatory contract regarding possible lost generation of power revenues generated at the Spanish Fork Power Plant on the Strawberry Valley Project.

34. Weber Basin Water Conservancy District, A.V. Watkins Dam, Utah: The United States intends to enter into an implementation agreement with the District giving the District the authority to modify Federal facilities to raise the crest of AV Watkins Dam.

Completed contract actions:

16. Azalea Oil Company; Flaming Gorge Unit, CRSP; Wyoming: The Company has requested a contract for 1 acre-foot of water for drilling, dust suppression, and other uses for a well. The Company plans on drilling in Southwest Wyoming. Contract executed March 24, 2015.

26. La Plata Water Conservancy District, Animas-La Plata Project, Colorado: The District has requested a 1-year temporary water service contract for the use of Reclamation shares in the Pine Ridge Ditch for the temporary use of up to 262 acre-feet. A contract is currently being drafted which will determine point(s) of delivery and rate and method of water payments. Contract executed June 22, 2015.

Great Plains Region: Bureau of Reclamation, P.O. Box 36900, Federal Building, 2021 4th Avenue North, Billings, Montana 59101, telephone 406-247-7752.

New contract actions:

64. Glen Elder ID No. 8; Glen Elder Unit, P-SMBP; Kansas: Consideration to renew long-term water service contract No. 2-07-60-W0855.

65. Mitchell County Rural Water District No. 2; Glen Elder Unit, P-SMBP; Kansas: Consideration to renew long-term water delivery contract No. 7-07-70-W0108.

Modified contract action:

30. Helena Valley ID; Helena Valley Unit, P-SMBP; Montana: Consideration of a contract to allow for delivery of up to 500 acre-feet of water for M&I purposes within the District boundaries.

Discontinued contract actions:

40. William Rau; Canyon Ferry Unit, P-SMBP; Montana: Renewal of a long-term water service contract.

52. Jeffrey N. Edwards Revocable Trust; Bostwick Division, P-SMBP; Nebraska: Excess capacity contract for the conveyance of nonproject water.

54. Fort Cobb Reservoir Master Conservancy District, Fort Cobb Division, Washita River Basin Project: Reclamation intends to enter into an amendment to contract No. 14-06-500-295 to recognize the previously uncommitted irrigation water allocation as available for M&I use.

Completed contract actions:

58. Sunny Brooks Colony, Inc.; Lower Marias Unit, P-SMBP; Montana: Consideration to enter into a long-term contract for up to 59 acre-feet of M&I water from Lake Elwell. Contract executed June 24, 2015.

59. Devon Water Inc.; Lower Marias Unit, P-SMBP; Montana: Proposed 40-year contract for M&I water. Contract executed July 16, 2015.

60. Tiber County WD; Lower Marias Unit, P-SMBP; Montana: Proposed 40-year contract for M&I water. Contract executed July 31, 2015.

61. Dugout Water Association; Lower Marias Unit, P-SMBP; Montana: Proposed renewal of 40-year contract for M&I water. Contract executed September 10, 2015.

Dated: September 22, 2015.
Roseann Gonzales,
Director, Policy and Administration.

[FR Doc. 2015-27272 Filed 10-26-15; 8:45 am]

BILLING CODE 4332-90-P